DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: June 18, 2020, 10:00 a.m.

PLACE: Open to the public via audio Webcast only.¹

¹ Join FERC online to listen live at http://ferc.capitolconnection.org/.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1068th Meeting—Open Meeting
[June 18, 2020, 10:00 a.m.]
Item No. | Docket No. | Company
ADMINISTRATIVE
A-1 | AD20-1-000 | Agency Administrative Matters.
A-2 | AD20-2-000 | Customer Matters, Reliability, Security and Market Operations.
ELECTRIC
E-1 | EL19-90-000 | ISO New England Inc.
E-2 | EL19-91-000 | PJM Interconnection, L.L.C.
E-3 | EL19-92-000 | Southwest Power Pool, Inc.
E-4 | RM01-8-000 | Filing Requirements for Electric Utility Service Agreements.
| RM10-12-000 | Electricity Market Transparency Provisions of Section 220 of the Federal Power Act.
| RM12-3-000 | Revisions to Electric Quarterly Report Filing Process.
| ER02-2001-000 | Electric Quarterly Reports.
E-5 | RM20-12-000 | Potential Enhancements to the Critical Infrastructure Protection Reliability Standards.
E-6 | OMITTED
E-7 | OMITTED
E-8 | ER19-1428-003 | ISO New England Inc.
E-9 | OMITTED
E-10 | OMITTED
E-11 | ER11-3658-001, ER12-1920-001, ER13-1595-001, ER14-2085-001 | Entergy Services, Inc.
E-12 | ER18-899-002 | Commonwealth Edison Company.
| ER18-903-002 | Delmarva Power & Light Company.
| ER18-904-002 | Atlantic City Electric Company.
| ER18-905-002 | Potomac Electric Power Company; PJM Interconnection, L.L.C.
E-13 | ER19-1823-002, ER19-1960-001, ER19-1960-002 | Midcontinent Independent System Operator, Inc.
E-14 | ER19-1943-002 | NorthWestern Corporation.
E-15 | ER20-1313-000, ER19-1357-000 | GridLiance High Plains LLC.
| ER18-2358-001 (consolidated) | Southwest Power Pool, Inc.
E-16 | ER19-1954-001 | Southwest Power Pool, Inc.
E-17 | ER19-2347-001 | California Independent System Operator Corporation.
E-18 | OMITTED
E-19 | EL20-10-000 | Anbaric Development Partners, LLC v. PJM Interconnection, L.L.C.
E-20 | EL19-82-001 | Harbor Cogeneration Company, LLC v. Southern California Edison Company.
E-21 | EL19-78-000 | National Railroad Passenger Corporation v. PPL Electric Utilities Corporation and PJM Interconnection, L.L.C.
E-22 | EL20-29-000 | LS Power Grid California, LLC.
E-23 | OMITTED
E-24 | OMITTED
E-25 | OMITTED
E-26 | ER19-1931-001 | Electric Energy, Inc.
E-27 | ER19-1934-003 | Tucson Electric Power Company.
E-28 | ER19-1935-002 | UNS Electric, Inc.
GAS
G-1 | RM20-14-000 | Five-Year Review of the Oil Pipeline Index.
G-2 | AC19-95-000 | Alliance Pipeline L.P.
G-3 | RP20-521-000 | Betelgeuse Energy, LLC v. El Paso Natural Gas Company, L.L.C.
G-4 | RP19-1523-003, RP19-1523-000, RP19-78-005, RP19-78-001, RP19-78-000 | Panhandle Eastern Pipe Line Company, LP.
| RP19-257-007, RP19-257-005 | Southwest Gas Storage Company.
HYDRO
H-1 | P-2467-020, P-2179-043 | Merced Irrigation District.
H-2 | P-2088-068 | South Feather Water and Power Agency.
H-3 | P-1971-129 | Idaho Power Company.
CERTIFICATES
C-1 | CP19-512-000 | Texas Eastern Transmission, LP.
C-2 | CP19-517-000 | Gulf South Pipeline Company, LLC.
C-3 | CP19-78-001 | PennEast Pipeline Company, LLC.
C-4 | CP20-466-000 | New Fortress Energy LLC.
C-5 | CP19-19-000 | Magnolia LNG LLC.
C-6 | CP19-14-000 | Mountain Valley Pipeline, LLC.
C-7 | CP20-8-000 | ANR Pipeline Company.
C-8 | OMITTED
C-9 | CP20-16-000 | Portland Natural Gas Transmission System.

Issued: June 11, 2020.
Kimberly D. Bose,
Secretary.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2020-13038 Filed 6-12-20; 4:15 pm]

BILLING CODE 6717-01-P